SMALL BUSINESS ADMINISTRATION

[Declaration of Economic Injury Disaster #9J35]

State of Alaska

Kenai Peninsula Borough and the contiguous Boroughs of Matanuska-Susitna and Lake and Peninsula, together with the Regional Educational Attendance Area #10 (Chugach) and the Municipality of Anchorage, in the State of Alaska, constitute an economic injury disaster area due to severe storms and flooding in September of 1995 that resulted in a low return of sockeye salmon to their spawning grounds in the lower Kenai River during the year 2000. Eligible small businesses and small agricultural cooperatives without credit available elsewhere may file applications for economic injury assistance for this disaster until the close of business on July 24, 2001 at the address listed below or other locally announced locations: U.S. Small Business Administration, Disaster Area 4 Office, P. O. Box 13795, Sacramento, CA 95853-4795.

The interest rate for eligible small businesses and small agricultural cooperatives is 4 percent.

(Catalog of Federal Domestic Assistance Program No. 59002.)

Dated: October 24, 2000.
Kris Swedin,
Acting Administrator.

[FR Doc. 00-28453 Filed 11-6-00; 8:45 am]

BILLING CODE 8025-01-P